DEPARTMENT OF HOMELAND SECURITY

Federal Emergency Management Agency

44 CFR Part 64

[Docket ID FEMA-2008-0020; Internal Agency Docket No. FEMA-8075]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region IV
Georgia: Good Hope, City of, Walton County | 130411 | April 12, 1976, Emerg; June 17, 1986, Reg; May 18, 2009, Susp | May 18, 2009 | May 18, 2009
Loganville, City of, Walton County | 130326 | March 22, 1979, Emerg; July 16, 1982, Reg; May 18, 2009, Susp | *......do | Do.
Monroe, City of, Walton County | 130227 | March 26, 1975, Emerg; February 16, 1990, Reg; May 18, 2009, Susp | ......do | Do.
North Carolina: Jonesville, Town of, Yadkin County | 370260 | June 26, 1975, Emerg; July 1, 1987, Reg; May 18, 2009, Susp | ......do | Do.
Yadkin County, Unincorporated Areas | 370400 | NA, Emerg; June 22, 2005, Reg; May 18, 2009, Susp | ......do | Do.
Tennessee: Benton, City of, Polk County | 470148 | May 27, 1975, Emerg; July 3, 1986, Reg; May 18, 2009, Susp | ......do | Do.
Copperhill, City of, Polk County | 470269 | May 1, 1975, Emerg; August 19, 1986, Reg; May 18, 2009, Susp | ......do | Do.
Gallatin, City of, Sumner County | 470185 | May 27, 1975, Emerg; August 3, 1981, Reg; May 18, 2009, Susp | ......do | Do.
Gatlinburg, City of, Sevier County | 475426 | October 30, 1970, Emerg; October 30, 1970, Reg; May 18, 2009, Susp | ......do | Do.
Hendersonville, City of, Sumner County | 470186 | May 28, 1974, Emerg; November 4, 1981, Reg; May 18, 2009, Susp | ......do | Do.
Lebanon, City of, Wilson County | 470208 | June 23, 1975, Emerg; January 6, 1983, Reg; May 18, 2009, Susp | ......do | Do.
Livingston, City of, Overton County | 470143 | February 5, 1975, Emerg; June 3, 1986, Reg; May 18, 2009, Susp | ......do | Do.
Mount Juliet, City of, Wilson County | 470290 | July 8, 1976, Emerg; May 17, 1982, Reg; May 18, 2009, Susp | ......do | Do.
Pigeon Forge, City of, Sevier County | 475442 | November 13, 1971, Emerg; September 1, 1972, Reg; May 18, 2009, Susp | ......do | Do.
Pittman Center, City of, Sevier County | 470378 | August 24, 1993, Emerg; March 1, 1995, Reg; May 18, 2009, Susp | ......do | Do.
Polk County, Unincorporated Areas | 470261 | April 9, 1993, Emerg; June 16, 1995, Reg; May 18, 2009, Susp | ......do | Do.
Sevierville, City of, Sevier County | 475444 | October 23, 1970, Emerg; March 27, 1971, Reg; May 18, 2009, Susp | ......do | Do.
Sumner County, Unincorporated Areas | 470349 | August 5, 1975, Emerg; June 19, 1985, Reg; May 18, 2009, Susp | ......do | Do.
Wilson County, Unincorporated Areas | 470207 | August 27, 1975, Emerg; June 15, 1984, Reg; May 18, 2009, Susp | ......do | Do.
Region V
Wisconsin: Albany, Village of, Green County | 550158 | March 18, 1975, Emerg; July 18, 1983, Reg; May 18, 2009, Susp | ......do | Do.
Brodhead, City of, Green County | 550160 | April 30, 1975, Emerg; September 29, 1989, Reg; May 18, 2009, Susp | ......do | Do.
Browntown, City of, Green County | 550161 | August 16, 1978, Emerg; October 16, 1984, Reg; May 18, 2009, Susp | ......do | Do.
Green County, Unincorporated Areas | 550157 | November 1, 1974, Emerg; September 15, 1983, Reg; May 18, 2009, Susp | ......do | Do.
Monroe, City of, Green County | 550162 | May 1, 1975, Emerg; December 1, 1982, Reg; May 18, 2009, Susp | ......do | Do.
Monticello, Village of, Green County | 550163 | May 15, 1975, Emerg; July 18, 1983, Reg; May 18, 2009, Susp | ......do | Do.
New Glarus, Village of, Green County | 550164 | May 2, 1975, Emerg; August 1, 1983, Reg; May 18, 2009, Susp | ......do | Do.
Region VI
Oklahoma: Bristow, City of, Creek County | 400051 | July 9, 1980, Emerg; May 4, 1982, Reg; May 18, 2009, Susp | ......do | Do.
Drumright, City of, Creek, Payne County | 400052 | June 12, 1975, Emerg; July 2, 1980, Reg; May 18, 2009, Susp | ......do | Do.
Kiefer, Town of, Creek County | 400393 | July 9, 1975, Emerg; April 15, 1982, Reg; May 18, 2009, Susp | ......do | Do.
Mannford, Town of, Creek County | 400399 | March 20, 2003, Emerg; NA, Reg; May 18, 2009, Susp | ......do | Do.
Sapulpa, City of, Creek County | 400053 | August 4, 1972, Emerg; December 1, 1977, Reg; May 18, 2009, Susp | ......do | Do.
Stroud, City of, Creek, Lincoln County | 400417 | NA, Emerg; March 6, 2000, Reg; May 18, 2009, Susp | ......do | Do.
Region VII
Missouri: Eldon, Town of, Miller County | 290227 | January 17, 1975, Emerg; December 12, 1978, Reg; May 18, 2009, Susp | ......do | Do.
Jonesburg, City of, Montgomery County | 290310 | December 31, 2007, Emerg; NA, Reg; May 18, 2009, Susp | ......do | Do.
Lake Ozark, City of, Miller County | 290698 | April 15, 2005, Emerg; August 1, 2005, Reg; May 18, 2009, Susp | ......do | Do.
Miller County, Unincorporated Areas | 290226 | NA, Emerg; October 19, 1998, Reg; May 18, 2009, Susp | ......do | Do.
Montgomery County, Unincorporated Areas | 290242 | October 29, 1986, Emerg; March 1, 1987, Reg; May 18, 2009, Susp | ......do | Do.
Rhineland, Town of, Montgomery County | 290243 | October 24, 1986, Emerg; October 24, 1986, Reg; May 18, 2009, Susp | ......do | Do.
Tuscumbia, Village of, Miller County | 290228 | December 2, 1986, Emerg; March 1, 1987, Reg; May 18, 2009, Susp | ......do | Do.
Region IX
California: San Jose, City of, Santa Clara County | 060349 | January 23, 1976, Emerg; August 2, 1982, Reg; May 18, 2009, Susp | ......do | Do.
* do = Ditto.
Code for reading third column: Emerg.—Emergency; Reg.—Regular; Susp.—Suspension.

Dated: May 7, 2009.
Deborah Ingram,
Acting Deputy Assistant Administrator, Mitigation Directorate, Department of Homeland Security, Federal Emergency Management Agency.

[FR Doc. E9-11516 Filed 5-15-09; 8:45 am]

BILLING CODE 9110-12-P